DEPARTMENT OF THE INTERIOR

Fish and Wildlife Service

[FWS-R8-NWRS-2016-0063: FXRS12610800000-167-FF08R00000]

Lower Klamath, Clear Lake, Tule Lake, Upper Klamath, and Bear Valley National Wildlife Refuges, Klamath County, OR; Siskiyou and Modoc Counties, CA: Draft Comprehensive Conservation Plan/Environmental Impact Statement

AGENCY: Fish and Wildlife Service, Interior.

ACTION: Notice of availability; request for comments.

SUMMARY: We, the Fish and Wildlife Service (Service), announce the availability of a Draft Comprehensive Conservation Plan (CCP) and Environmental Impact Statement (EIS) for Lower Klamath, Clear Lake, Tule Lake, Upper Klamath, and Bear Valley National Wildlife Refuges (Refuges) for review and comment. The Refuges are part of the Klamath Basin Complex. The draft CCP/EIS, prepared under the National Wildlife Refuge Improvement Act of 1997, and in accordance with the National Environmental Policy Act of 1969, describes how the Service proposes to manage the refuges for the next 15 years. Draft compatibility determinations for uses proposed under one or more of the alternatives are also available for review and public comment.

DATES: To ensure consideration, we must receive your written comments by June 20, 2016. Comments submitted electronically using the Federal eRulemaking Portal (see ADDRESSES) must be received by 11:59 p.m. Eastern Time on the closing date.

ADDRESSES: Document Availability: You may obtain copies of the documents in the following places:

• Internet: http://www.regulations.gov (Docket Number FWS-R8-R-2016-0063).

• In Person:

○ Klamath Refuge Basin National Wildlife Refuge Complex Headquarters, 4009 Hill Road, Tulelake, CA 96134.

○ The following libraries: For the location of libraries with a copy of this document, see Public Availability of Documents under SUPPLEMENTARY INFORMATION.

Submitting Comments: You may submit written comments by one of the following methods:

• Electronically: Go to the Federal eRulemaking Portal: http://www.regulations.gov. In the Search box, enter FWS-R8-NWRS-2016-0063, which is the docket number for this notice. Then, on the left side of the screen, under the Document Type heading, click on the Notices link to locate this document and submit a comment.

• By hard copy: Submit by U.S. mail or hand-delivery to: Public Comments Processing, Attn: FWS-R8-NWRS-2016-0063; U.S. Fish and Wildlife Service Headquarters, MS: BPHC; 5275 Leesburg Pike, Falls Church, VA 22041-3803

We request that you send comments by only the methods described above. We will post all information received on http://www.regulations.gov. This generally means that we will post any personal information you provide us (see the Public Comments under SUPPLEMENTARY INFORMATION for more information).

For how to view comments on the draft CCP/EIS from the Environmental Protection Agency (EPA), or for information on EPA's role in the EIS process, see EPA's Role in the EIS Process under SUPPLEMENTARY INFORMATION.

Additional information about the CCP planning process is available on the Internet at http://www.fws.gov/refuge/Tule_Lake/what_we_do/conservation.html.

FOR FURTHER INFORMATION CONTACT: Klamath Refuge Planner, (916) 414-6464 (phone).

SUPPLEMENTARY INFORMATION: We publish this notice to announce the availability of a draft CCP/EIS for the Klamath Basin Refuges. The draft CCP/EIS, which we prepared in accordance with the National Environmental Policy Act of 1969 (NEPA), describes and analyzes a range of management alternatives for the Klamath Basin Refuges. In addition to our publication of this notice, EPA is publishing a notice announcing the draft CCP/EIS, as required under section 309 of the Clean Air Act (42 U.S.C. 7401 et seq.). The publication date of EPA's notice of availability is the start of the public comment period for the draft CCP/EIS. Under the CAA, EPA must also subsequently announce the final EIS via the Federal Register.

EPA's Role in the EIS Process

The EPA is charged under section 309 of the CAA (42 U.S.C. 7401 et seq.) to review all Federal agencies' environmental impact statement (EISs) and to comment on the adequacy and acceptability of the environmental impacts of proposed actions in the EISs.

EPA also serves as the repository (EIS database) for EISs prepared by Federal agencies and provides notice of their availability in the Federal Register. The EIS Database provides information about EISs prepared by Federal agencies, as well as EPA's comments concerning the EISs. All EISs are filed with EPA, which publishes a notice of availability on Fridays in the Federal Register.

The notice of availability is the start of the public comment period for draft EISs, and the start of the 30-day “wait period” for final EISs, during which agencies are generally required to wait 30 days before making a decision on a proposed action. For more information, see http://www.epa.gov/compliance/nepa/eisdata.html. You may search for EPA comments on EISs, along with the EISs themselves, at https://cdxnodengn.epa.gov/cds-enepa-public/action/eis/search.

Background

The CCP Process

The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs also evaluate the potential for providing wildlife-dependent recreational opportunities to the public, including opportunities for hunting, fishing, wildlife observation and photography, and environmental education and interpretation. We will review and update the CCP at least every 15 years in accordance with the Improvement Act.

With this notice, we continue the CCP process for Lower Klamath, Clear Lake, Tule Lake, Upper Klamath, and Bear Valley National Wildlife Refuges (Refuges). We started this process through a notice in the Federal Register on April 29, 2010 (75 FR 22621).

The Klamath Basin Refuges consist of a variety of habitats, including freshwater marshes, open water, grassy meadows, coniferous forests, sagebrush and juniper grasslands, agricultural lands, and rocky cliffs and slopes. These habitats support diverse and abundant populations of resident and migratory wildlife, with 433 species having been observed on or near the Refuges. In addition, each year the Refuges serve as a migratory stopover for about three-quarters of the Pacific Flyway waterfowl, with peak fall concentrations of over 1 million birds.

Public Availability of Documents

In addition to any methods in ADDRESSES, you can view or obtain documents at the following locations:

• Public Libraries: the table below lists the libraries where the document can be found during regular library hours.

Library | Address | Phone No.
Klamath County Main | 126 South Third Street, Klamath Falls, OR 97601 | (541) 882-8894
Keno Branch | 15555 Hwy 66, #1, Keno, OR 97627 | (541) 273-0750
Malin Branch | 2307 Front Street, Malin, OR 97632 | (541) 723-5210
Merrill Branch | 365 Front Street, Merrill, OR 97633 | (541) 798-5393
S. Suburban Branch | 3625 Summers Lane, Klamath Falls, OR 97603 | (541) 273-3679
Tulelake Branch | 451 Main Street, Tulelake, CA 96134 | (530) 667-2291
Butte Valley Branch | 800 West Third Street, Dorris, CA 96023 | (530) 397-4932
Redding | 1100 Parkview Ave., Redding, CA 96001 | (530) 245-7250
Multnomah Co. Central | 801 SW 10th Ave., Portland, OR 97205 | (530) 988-5123
Sacramento Public Central Branch | 828 I St., Sacramento, CA 95814 | (916) 264-2700
Medford | 205 S. Central Ave., Medford, OR 95701 | (541) 774-8689

NEPA Compliance

We are conducting environmental review in accordance with the requirements of NEPA, as amended (42 U.S.C. 4321 et seq.), its implementing regulations (40 CFR parts 1500-1508), other applicable regulations, and our procedures for compliance with those regulations. The draft EIS discusses the direct, indirect, and cumulative impacts of the alternatives on biological resources, cultural resources, water quality, and other environmental resources. Measures to minimize adverse environmental effects are identified and discussed in the draft CCP/EIS.

Public Comments

We request that you send comments only by one of the methods described in ADDRESSES. If you submit a comment via http://www.regulations.gov, your entire comment—including your personal identifying information—will be posted on the Web site. We will post all hardcopy comments on http://www.regulations.gov as well. If you submit a hardcopy comment that includes personal identifying information, you may request at the top of your document that we withhold this information from public review. However, we cannot guarantee that we will be able to do so. Comments and materials we receive, as well as documents associated with the notice, will be available for public inspection on http://www.regulations.gov at Docket No. FWS-R8-NWRS-2016-0063.

The locations, dates, and times of public meetings will be listed in a planning update distributed to the project mailing list and posted on the refuge planning Web site at http://www.fws.gov/refuge/Tule_Lake/what_we_do/conservation.html.

J. Eric Davis Jr.,
Acting Regional Director, Pacific Southwest Region, Sacramento, California.

[FR Doc. 2016-10717 Filed 5-5-16; 8:45 am]

BILLING CODE 4333-15-P